DEPARTMENT OF TRANSPORTATION

Federal Highway Administration

MAP-21 Comprehensive Truck Size and Weight Limits Study Public Meeting and Outreach Session

AGENCY: Federal Highway Administration (FHWA); DOT.

ACTION: Notice of Public Meeting.

SUMMARY: This notice announces an upcoming public meeting on the Moving Ahead for Progress in the 21st Century Act (MAP-21) Comprehensive Truck Size and Weight Limits Study. The U.S. Department of Transportation (DOT) will hold a third public outreach session to provide an update on the progress of the MAP-21 Comprehensive Truck Size and Weight Limits Study.

DATES: The DOT Comprehensive Truck Size and Weight Limits Study -Third Public Outreach Session (Webinar) will be held on May 6, 2014 from 1:00 p.m. to 3:00 p.m., e.t.

ADDRESSES: The DOT Comprehensive Truck Size and Weight Limits Study—Third Public Outreach Session will be held as a Webinar. Additional Webinar details and registration information will be sent to individuals who have registered on the Comprehensive Truck Size and Weight Limits Study email list and will also be posted on FHWA's Truck Size and Weight Web site: http://www.ops.fhwa.dot.gov/freight/sw/map21tswstudy/index.htm.

FOR FURTHER INFORMATION CONTACT: email CTSWStudy@dot.gov or contact Mr. Thomas Kearney at: (518) 431-8890, Tom.Kearney@dot.gov; Edward Strocko, (202) 366-2997, ed.strocko@dot.gov; Office of Freight Management and Operations, Federal Highway Administration, Department of Transportation, 1200 New Jersey Ave., SE., Washington, DC 20590.

SUPPLEMENTARY INFORMATION:

Background

The MAP-21 (Pub. L. 112-141) requires DOT to conduct a Comprehensive Truck Size and Weight Limits Study (MAP-21 § 32801) addressing differences in safety risks, infrastructure impacts, and the effect on levels of enforcement between trucks operating at or within Federal truck size and weight (TSW) limits and trucks legally operating in excess of Federal limits; comparing and contrasting the potential safety and infrastructure impacts of alternative configurations (including configurations that exceed current Federal TSW limits) to the current Federal TSW law and regulations; and, estimating the effects of freight diversion due to these alternative configurations.

Public Meeting

On May 6, 2014 from 1:00 p.m. to 3:00 p.m., e.t., DOT will hold the third public outreach session to provide an update on the MAP-21 Comprehensive Truck Size and Weight Limits Study progress. This session will be held as a Webinar and will include an update on the technical analysis and project schedule. This Webinar will be recorded. Additional Webinar details and registration information can be found on FHWA's Truck Size and Weight Web site: http://www.ops.fhwa.dot.gov/freight/sw/map21tswstudy/index.htm. Information will also be sent to individuals who have registered on the Comprehensive Truck Size and Weight Limits Study email list.

The DOT invites participation in these meetings by all those interested in the MAP-21 Comprehensive Truck Size and Weight Limits Study.

Issued on: April 9, 2014.
Jeffrey A. Lindley,
Associate Administrator for Operations.

[FR Doc. 2014-08457 Filed 4-14-14; 8:45 am]

BILLING CODE 4910-22-P